DEPARTMENT OF STATE

[Public Notice 3760]

60-Day Notice of Proposed Information Collection: Department of State Form DS-1950, Application for Employment (OMB Control Number 1400-0007)

ACTION: 60-day notice of proposed information collection.

SUMMARY: The Department of State is seeking Office of Management and Budget (OMB) approval for the information collection described below. The purpose of this notice is to allow 60 days for public comment in the Federal Register preceding submission to OMB. This process is conducted in accordance with the Paperwork Reduction Act of 1995.

The following summarizes the information collection proposal submitted to OMB:

Type of Request: Regular.

Originating Office: Bureau of Human Resources, HR/REE/REC.

Title of Information Collection: Department of State Application for Employment.

Frequency: Four application periods per year.

Form Number: DS-1950.

Respondents: U.S. citizens seeking entry into the Department of State Foreign Service and individuals, Sophomore through Graduate level college and university students, seeking participation in the Department's student programs.

Estimated Number of Respondents: 25,000.

Average Hours Per Response: ½ hour per response per part.

Total Estimated Burden: 14,500.

Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR ADDITIONAL INFORMATION: Public comments, or requests for additional information, regarding the collection listed in this notice should be directed to Mr. Richard M. Esper, U.S. Department of State, Recruitment Division, 5th Floor, 2401 E Street, N.W., Washington, DC 20522. He may be reached on 202-261-8888.

Dated: July 3, 2001.
Ruben Torres,
Executive Director, Bureau of Human Resources, Department of State.

[FR Doc. 01-22055 Filed 8-30-01; 8:45 am]

BILLING CODE 4710-15-P